DEPARTMENT OF TRANSPORTATION

Pipeline and Hazardous Materials Safety Administration

[Docket No. PHMSA-2014-0090]

Pipeline Safety: Public Workshop on Managing Pipeline Cracking Challenges

AGENCY: Pipeline and Hazardous Materials Safety Administration, DOT.

ACTION: Notice of public workshop.

SUMMARY: The Pipeline and Hazardous Materials Safety Administration (PHMSA) and the National Association of Pipeline Safety Representatives are holding this public workshop to gather and disseminate information on the state-of-the-art of crack detection in hazardous liquid and natural gas pipelines. Perspectives on the challenges involved with detecting and characterizing crack like defects, including environmentally assisted cracks and cracks with corrosion, will be provided from pipeline operators and regulators. This public workshop will provide an update on technology developments via research, the success rate in deploying such technology for detection and a discussion on the level of and types of data collected in support of engineering assessments. It will also discuss other information in support of criteria for determining when a probable crack defect in a pipeline segment must be excavated, the time limits for completing those excavations and models for determining crack growth rates.

DATES: The public workshop will be held on Tuesday, August 5, 2014, from 9:00 a.m. to 5:00 p.m. CDT.

ADDRESSES: The public workshop will be held at the Crowne Plaza Chicago O'Hare, 5440 North River Road, Rosemont, IL 60018. Hotel reservations can be made under the room block “DOT/PHMSA” at http://www.crowneplazaohare.com/ or by calling the hotel directly at 877-337-5793. A small room block is available at the Federal Government rate of $166/night for the nights of August 4 and 5 on a first come, first served basis, and must be made by July 21, 2014.

Registration: Members of the public may attend this free public workshop. To help assure that adequate space and accommodations are provided, all attendees are encouraged to register for the workshop in advance at http://primis.phmsa.dot.gov/meetings/MtgHome.mtg?mtg=97. A name tag will be provided from your registration.

Webcast: This public workshop will also be webcasted in order to facilitate wider reaching and remote attendance. Webcast information will be provided in the hour before the start time at http://primis.phmsa.dot.gov/meetings/MtgHome.mtg?mtg=97.

Information on Services for Individuals With Disabilities

For information on facilities or services for individuals with disabilities, or to request special assistance at the workshop, please contact the Crowne Plaza at 877-337-5793 or Robert Smith, PHMSA, Office of Pipeline Safety, at 919-238-4759 or by email at robert.w.smith@dot.gov.

FOR FURTHER INFORMATION CONTACT: Robert Smith, PHMSA, Office of Pipeline Safety, at 919-238-4759 or by email at robert.w.smith@dot.gov, regarding the subject matter of this notice.

SUPPLEMENTARY INFORMATION: The details on this meeting including the times and agenda will be available on the meeting page at http://primis.phmsa.dot.gov/meetings/MtgHome.mtg?mtg=97 as they become available. Presentation files and the webcast archive will also be available online from the meeting page within 30 days following the meeting.

Authority: 49 CFR 1.97.

Issued in Washington, DC, on June 25, 2014.
Jeffrey D. Wiese,
Associate Administrator for Pipeline Safety.

[FR Doc. 2014-15305 Filed 6-30-14; 8:45 am]

BILLING CODE 4910-60-P